DEPARTMENT OF HOMELAND SECURITY

IP Gateway User Registration

AGENCY: Infrastructure Security Division (ISD), Cybersecurity and Infrastructure Security Agency (CISA), Department of Homeland Security (DHS).

ACTION: 30-Day notice and request for comments; revision, 1670-0009.

SUMMARY: DHS CISA ISD will submit the following information collection request (ICR) to the Office of Management and Budget (OMB) for review and clearance in accordance with the Paperwork Reduction Act of 1995. CISA previously published this ICR for a 60-day public comment period. No comments were received by CISA. The purpose of this notice is to allow an additional 30 days for public comments.

DATES: Comments are due by November 20, 2019.

ADDRESSES: Interested persons are invited to submit written comments on the proposed information collection to the Office of Information and Regulatory Affairs, OMB. Comments should be addressed to the OMB Desk Officer, Department of Homeland Security and sent via electronic mail to dhsdeskofficer@omb.eop.gov. All submissions must include the words “Department of Homeland Security” and the OMB Control Number 1670-0009.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Ricky Morgan, 866-844-8163, IPGatewayHelpDesk@hq.dhs.gov.

SUPPLEMENTARY INFORMATION: The Homeland Security Presidential Directive-7, Presidential Policy Directive-21, and the National Infrastructure Protection Plan highlight the need for a centrally managed repository of infrastructure attributes capable of assessing risks and facilitating data sharing. To support this mission need, the DHS CISA IDS has developed the IP Gateway. The IP Gateway contains several capabilities which support the homeland security mission in the area of critical infrastructure (CI) protection.

The purpose of this collection is to gather the details pertaining to the users of the IP Gateway for the purpose of creating accounts to access the IP Gateway. This information is also used to verify a need to know to access the IP Gateway. After being vetted and granted access, users are prompted and required to take an online training course upon first logging into the system. After completing the training, users are permitted full access to the system. In addition, this collection will gather feedback from the users of the IP Gateway to determine any future system improvements.

The information gathered will be used by the CISA IP Gateway Program Management Team to vet users for a need to know and grant access to the system. As part of the registration process, users are required to take a one-time online training course. When logging into the system for the first time, the system prompts users to take the training courses. Users cannot opt out of the training and are required to take the course in order to gain and maintain access to the system. When users complete the training, the system automatically logs that the training is complete and allows full access to the system.

Additionally, CISA uses a Utilization Survey to assess the current functionality of the IP Gateway as well as identify any further capabilities to be developed. Through this process, the IP Gateway will remain a viable solution for the stakeholders. This survey is available to users as an ideal way to consolidate end user satisfaction feedback and gather undeveloped capabilities that would aid in the expansion and functionality of the IP Gateway.

The collection of information uses automated electronic forms. During the online registration process, there is an electronic form used to create a user account and an online training course required to grant access.

The survey is electronic and includes questions that measure the satisfaction of the user as well as a section to capture any improvements that the user would like to see added and/or corrected. This voluntary survey is available by clicking a link labeled “User Survey” on the IP Gateway landing page. By clicking on this link, the user is then provided the electronic form for them to complete and submit.

The changes to the collection since the previous OMB approval include: Updating the title of the collection, decrease in burden estimates and decrease in costs. The total annual burden cost for the collection has decreased by $31,909, from $37,230 to $5,321 due to a decrease in registrations, as registration is a one-time burden. The total number of responses has decreased by 1,150 from 1,500 to 350 since most users are already registered for the system as well as making updates for the number of survey responses received. The annual government cost for the collection has decreased by $95,188 from $107,857 to $12,668, due to removing the costs associated with designing the survey.

This is a revision and renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: IP Gateway User Registration.

OMB Control Number: 1670-0009.

Frequency: Annually.

Affected Public: State, Local, Tribal, and Territorial Governments and Private Sector Individuals.

Number of Annualized Respondents: 250.

Estimated Time Per Respondent: 0.17 hours, 0.5 hours.

Total Annualized Burden Hours: 92 hours.

Total Annualized Respondent Opportunity Cost: $5,321.

Total Annualized Respondent Out-of-Pocket Cost: $0.

Total Annualized Government Cost: $12,668.

Scott Libby,
Deputy Chief Information Officer.

[FR Doc. 2019-22818 Filed 10-18-19; 8:45 am]

BILLING CODE 9110-9P-P